DEPARTMENT OF COMMERCE

International Trade Administration

[A-791-819]

Notice of Postponement of Preliminary Determination of Sales at Less Than Fair Value: Certain Aluminum Plate From South Africa

AGENCY: Import Administration, International Trade Administration, Department of Commerce.

SUMMARY: We are postponing the preliminary determination in the antidumping duty investigation of certain aluminum plate from South Africa.

EFFECTIVE DATE: March 9, 2004.

FOR FURTHER INFORMATION CONTACT: Rebecca Trainor or Kate Johnson, Office 2, AD/CVD Enforcement Group I, Import Administration-Room B099, International Trade Administration, U.S. Department of Commerce, 14th Street and Constitution Avenue, NW., Washington, DC 20230; telephone: (202) 482-4007 or (202) 482-4929, respectively.

Postponement of Preliminary Determination:

On November 12, 2003, the Department published the initiation of the antidumping duty investigation of imports of certain aluminum plate from South Africa. See Notice of Initiation of Antidumping Duty Investigation: Certain Aluminum Plate from South Africa, 68 FR 64081. The notice of initiation stated that we would make our preliminary determination for this antidumping duty investigation no later than 140 days after the date of issuance of the initiation (i.e., March 23, 2004).

On February 13, 2004, Alcoa Inc. (the petitioner) timely alleged that Hulett Aluminium (Pty) Limited is selling below its cost of production. Therefore, in accordance with section 733(c)(1) of the Tariff Act of 1930, as amended (“the Act”), we are postponing the preliminary determination in order to provide the Department sufficient time in which to consider this allegation and the potential complexities it may impose on the dumping margin calculation should the Department initiate a cost investigation. We will make our preliminary determination no later than May 13, 2004.

This notice is published pursuant to sections 733(f) and 777(i) of the Act.

Dated: March 3, 2004.
Jeffrey May,
Deputy Assistant Secretary for Import Administration.

[FR Doc. 04-5279 Filed 3-8-04; 8:45 am]

BILLING CODE 3510-DS-S